SMALL BUSINESS ADMINISTRATION

[Disaster Declaration #17440 and #17441; NEW MEXICO Disaster Number NM-00080]

Presidential Declaration of a Major Disaster for the State of New Mexico

AGENCY: Small Business Administration.

ACTION: Notice.

SUMMARY: This is a Notice of the Presidential declaration of a major disaster for the State of New Mexico (FEMA-4652-DR), dated 05/04/2022.

Incident: Wildfires and Straight-line Winds.

Incident Period: 04/05/2022 and continuing.

DATES: Issued on 05/04/2022.

Physical Loan Application Deadline Date: 07/05/2022.

Economic Injury (EIDL) Loan Application Deadline Date: 02/06/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 05/04/2022, applications for disaster loans may be filed at the address listed above or other locally announced locations.

The following areas have been determined to be adversely affected by the disaster:

Primary Counties (Physical Damage and Economic Injury Loans): Colfax, Lincoln, Mora, San Miguel, Valencia.

Contiguous Counties (Economic Injury Loans Only):

New Mexico: Bernalillo, Chaves, Cibola, De Baca, Guadalupe, Harding, Otero, Quay, Rio Arriba, Santa Fe, Sierra, Socorro, Taos, Torrance, Union.

Colorado: Costilla, Las Animas.

The Interest Rates are:

| Percent
For Physical Damage:
Homeowners with Credit Available Elsewhere | 2.875
Homeowners without Credit Available Elsewhere | 1.438
Businesses with Credit Available Elsewhere | 5.880
Businesses without Credit Available Elsewhere | 2.940
Non-Profit Organizations with Credit Available Elsewhere | 1.875
Non-Profit Organizations without Credit Available Elsewhere | 1.875
For Economic Injury:
Businesses & Small Agricultural Cooperatives without Credit Available Elsewhere | 2.940
Non-Profit Organizations without Credit Available Elsewhere | 1.875

The number assigned to this disaster for physical damage is 17440 5 and for economic injury is 17441 0.

(Catalog of Federal Domestic Assistance Number 59008)

Joshua Barnes,
Acting Associate Administrator for Disaster Assistance.

[FR Doc. 2022-10439 Filed 5-13-22; 8:45 am]

BILLING CODE 8026-09-P